DEPARTMENT OF THE INTERIOR

Bureau of Reclamation

Delta-Mendota Canal Recirculation Project, Calaveras, Contra Costa, Fresno, Kings, Merced, San Benito, San Joaquin, Santa Clara, Stanislaus, and Tuolumne Counties, CA

AGENCY: Bureau of Reclamation, Interior

ACTION: Notice of intent to prepare an Environmental Impact Statement/Environmental Impact Report (EIS/EIR) and notice of public scoping meetings.

SUMMARY: Pursuant to the National Environmental Policy Act (NEPA) and the California Environmental Quality Act (CEQA), the Bureau of Reclamation (Reclamation) and the California Department of Water Resources (DWR) intend to prepare an EIS/EIR for the Delta-Mendota Canal (DMC) Recirculation Project. Reclamation is the Federal lead agency for NEPA and DWR is the State lead agency for CEQA.

The purpose of the project is to prepare a feasibility study of the DMC Recirculation Project that will evaluate the costs, benefits, feasibility, and impacts of possibly recirculating water from the DMC Canal for release to the San Joaquin River. Recirculation may provide additional flows for fishery objectives and may help to meet San Joaquin River water quality objectives, while reducing the reliance on the New Melones Reservoir for water releases. As part of the feasibility study process, a Draft EIS/EIR is expected to be available in 2008.

DATES: Public scoping meetings will be held to solicit public input on the alternatives, concerns, and issues to be addressed in the EIS/EIR. The meetings dates and times are as follows:

• Monday, April 16, 2007, 10 a.m.-12 p.m, Sacramento, CA.

• Monday, April 16, 2007, 6 p.m.-8 p.m., Los Banos, CA.

• Tuesday, April 17, 2007, 6 p.m.-8 p.m., Modesto, CA.

Written comments on the scope of the EIS/EIR should be mailed to the Bureau of Reclamation at the address below by May 9, 2007.

ADDRESSES: The public scoping meeting locations are:

• Sacramento at the Federal Building, 2800 Cottage Way, Cafeteria Conference Rooms C-1001 and C-1002.

• Los Banos at the Miller and Lux Senior Center Building, 830 6th Street.

• Modesto at the Modesto Centre Plaza, 1000 L Street, Pistache Room.

Written comments on the scope of the EIS/EIR should be sent to: Ms. Sammie Cervantes, Bureau of Reclamation, 2800 Cottage Way, Sacramento, CA 95825, via e-mail scervantes@mp.usbr.gov, or faxed to 916-978-5094.

FOR FURTHER INFORMATION CONTACT: Mr. Maury Kruth, Reclamation Project Manager, at the above address, at 916-978-5078, TDD 916-978-5608, via fax at 916-978-5094, or e-mail at mkruth@mp.usbr.gov.

SUPPLEMENTARY INFORMATION: The DMC is located on the western side of Central California's San Joaquin Valley and runs for approximately 120 miles, beginning near the City of Tracy at the southern edge of the Sacramento River and San Francisco Bay/Sacramento-San Joaquin Delta Estuary (Delta) and terminating at the Mendota Pool of the San Joaquin River. The project study area can be defined as the lower main stem of the San Joaquin River below its confluence with the Merced River, the areas served by the Merced, Tuolumne, and Stanislaus Rivers on the western side of the Sierra Nevada Mountains, and the areas served by the DMC, including approximately 30 water agencies. Immediately downstream from the confluence with the Stanislaus River, the San Joaquin River becomes part of the Delta, which serves as a source of water supply for agricultural, environmental, municipal, and urban uses. The south Delta will be considered part of the project study area.

The SWRCB has established Delta water quality and flow objectives that are to be met as a condition of the operation of the C.W. “Bill” Jones Pumping Plant (formerly the Tracy Pumping Plant) and the State Water Project Harvey O. Banks Pumping Plant. The current objectives for operation of the Central Valley Project and the State Water Project facilities in the Delta are the SWRCB's 1995 Water Quality Control Plan for the San Francisco Bay/Sacramento-San Joaquin Delta Estuary, and the SWRCB's Water Rights D-1641, as amended.

In D-1641, SWRCB required Reclamation to prepare a Plan of Action (POA) to evaluate the potential impacts of recirculating water from DMC through the Newman Wasteway, in consultation with National Marine Fisheries Service, U.S. Fish and Wildlife Service, California Department of Fish and Game, DWR, and the South Delta Water Agency. The POA has been completed and is being implemented by this feasibility study.

Federal authorization comes from Public Law 108-361, Section 103(d)(2)(D)(ii) of the CALFED Bay-Delta Authorization Act, which states in part that “* * * the Secretary [of the Interior] shall include, to the maximum extent feasible, the measures described in clauses (iii) through (vii).” Section 103(d)(2)(D)(iii) states “the Secretary shall incorporate into the program a recirculation program to provide flow, reduce salinity concentrations in the San Joaquin River, and reduce the reliance on the New Melones Reservoir for meeting water quality and fishery flow objectives through the use of excess capacity in export pumping and conveyance facilities.” Section 103(f)(1)(G) states “* * * funds may be used to conduct feasibility studies, evaluate, and if feasible, implement the recirculation of export water to reduce salinity and improve dissolved oxygen in the San Joaquin River.”

Previous recirculation studies have consisted of modeling and physically discharging water from the DMC to the San-Joaquin River via one of the wasteways that connect the DMC to the river. Ongoing studies that might affect the DMC Recirculation Project include Vernalis Adaptive Management Plan, CALFED Conveyance Program—South Delta Improvements Program, the New Melones Revised Plan of Operations, and the West Side Regional Drainage Plan. A recent litigation settlement regarding the San Joaquin River from Friant Dam to the Merced River may also affect the DMC Recirculation Project.

If special assistance is required at the scoping meetings, please contact Ms. Sammie Cervantes at 916-978-5189, TDD 916-978-5608, or via e-mail at scervantes@mp.usbr.gov. Please notify Ms. Cervantes as far in advance of the meetings as possible to enable Reclamation to secure the needed services. If a request cannot be honored, the requestor will be notified. A telephone device for the hearing impaired (TDD) is available at 916-978-5608.

Comments received in response to this notice will become part of the administrative record and are subject to public inspection. Our practice is to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: February 23, 2007.
Kenneth Lentz,
Acting Regional Environmental Officer, Mid-Pacific Region.

[FR Doc. E7-5889 Filed 3-29-07; 8:45 am]

BILLING CODE 4310-MN-P